DEPARTMENT OF THE INTERIOR

Bureau of Land Management

National Park Service

[NM-930-04-1610-DR]

Notice of Availability of Record of Decision for El Camino Real de Tierra Adentro National Historic Trail Comprehensive Management Plan (CMP) and Resource Management Plan Amendment (RMPA) for Mimbres, White Sands, and Taos RMPs

AGENCY: Bureau of Land Management, National Park Service, Interior.

ACTION: Notice of availability.

SUMMARY: In accordance with the National Environmental Policy Act (NEPA), the Federal Land Policy and Management Act (FLPMA), and the Bureau of Land Management (BLM) and National Park Service (NPS) management policies, the NPS and the BLM announce the availability of the ROD/CMP/RMPA for El Camino Real de Tierra Adentro National Historic Trail (NHT), which follows the Rio Grande valley from El Paso, Texas to San Juan Pueblo, New Mexico. The ROD/CMP/RMPA becomes effective immediately and amends the Mimbres, White Sands, and Taos RMPs.

ADDRESSES: Copies of El Camino Real de Tierra Adentro NHT CMP/ROD/RMPA are available upon request from Sarah Schlanger, New Mexico State Office, Bureau of Land Management, at mailing address P.O. Box 27115, Santa Fe, NM 87502-2115 or physical address 1474 Rodeo Road, Santa Fe, NM 87505; or Harry Myers, National Trails System Office—Santa Fe, National Park Service, at mailing address P.O. Box 728, Santa Fe, NM 87504, or physical address 1100 Old Santa Fe Trail, Santa Fe, NM 87505; or via the internet at http://www.elcaminoreal.org.

FOR FURTHER INFORMATION CONTACT: Sarah Schlanger, Team Lead, New Mexico Bureau of Land Management, 1474 Rodeo Road, Santa Fe, NM 87505, (505) 438-7454, Sarah_Schlanger@blm.gov, or Harry Myers, Team Lead, National Trails System, National Park Service, 1100 Old Santa Fe Trail, Santa Fe, NM 87505.

SUPPLEMENTARY INFORMATION: El Camino Real de Tierra Adentro NHT ROD/CMP/RMPA was developed with broad public participation through a two-year collaborative planning process. This ROD/CMP/RMPA addresses management along a 10-mile wide corridor crossing approximately 60 miles of public land in the planning area. El Camino Real de Tierra Adentro NHT ROD/CMP/RMPA is designed to achieve or maintain desired future conditions developed through the planning process. It includes a series of management actions to meet the desired resource conditions for the historic trail route and trail resources, including the visual resources within the trail corridor, recreation opportunities associated with the trail and other uses, energy and minerals, land and realty uses, livestock grazing, vegetation, noxious weeds, soils, water, and air quality.

The approved El Camino Real de Tierra Adentro NHT CMP/RMPA is essentially the same as the Preferred Alternative in the Proposed El Camino Real de Tierra Adentro NHT CMP/RMPA/Final Environmental Impact Statement (PCMP/FEIS), published in April 2004. BLM received no protests to the PCMP/RMPA/FEIS. No inconsistencies with State or local plans, policies, or programs were identified during the Governor consistency review of the PCMP/RMPA/FEIS. As a result, only minor editorial modifications were made in preparing the ROD/CMP/RMPA. These modifications corrected errors that were noted during review of the PCMP/RMPA/FEIS and provide further clarification for some of the decisions.

Dated: August 24, 2004.
Linda S.C. Rundell,
State Director, New Mexico BLM.
Stephen P. Martin,
Director, Intermountain Region, NPS.

[FR Doc. 04-21745 Filed 9-29-04; 8:45 am]

BILLING CODE 4310-FB-P